DEPARTMENT OF ENERGY

Federal Energy Regulatory Commission

Combined Notice of Filings #2

Take notice that the Commission received the following electric rate filings:

Docket Numbers: ER12-1179-020.

Applicants: Southwest Power Pool, Inc.

Description: Integrated Marketplace Fourth Compliance Filing to be effective 3/1/2014.

Filed Date: 7/17/14.

Accession Number: 20140717-5072.

Comments Due: 5 p.m. ET 8/7/14.

Docket Numbers: ER14-2232-001.

Applicants: Capital Energy LLC.

Description: Amendment to 1 to be effective 6/21/2014.

Filed Date: 7/17/14.

Accession Number: 20140717-5044.

Comments Due: 5 p.m. ET 8/7/14.

Docket Numbers: ER14-2450-000.

Applicants: Duke Energy Florida, Inc.

Description: New Smyrna Beach PPA—RS 218 (3rd Amendment) to be effective 9/15/2014.

Filed Date: 7/17/14.

Accession Number: 20140717-5043.

Comments Due: 5 p.m. ET 8/7/14.

Docket Numbers: ER14-2451-000.

Applicants: Great Lakes Hydro America, LLC.

Description: Great Lakes Hydro America, LLC MBR Filing to be effective 7/17/2014.

Filed Date: 7/17/14.

Accession Number: 20140717-5047.

Comments Due: 5 p.m. ET 8/7/14.

Docket Numbers: ER14-2452-000.

Applicants: Louisville Gas and Electric Company.

Description: Attachment L Tariff Revisions to be effective 9/15/2014.

Filed Date: 7/17/14.

Accession Number: 20140717-5060.

Comments Due: 5 p.m. ET 8/7/14.

Docket Numbers: ER14-2453-000.

Applicants: Delaware City Refining Company LLC.

Description: DCRC and PBF Change in Status Filing to be effective 7/17/2014.

Filed Date: 7/17/14.

Accession Number: 20140717-5063.

Comments Due: 5 p.m. ET 8/7/14.

Docket Numbers: ER14-2454-000.

Applicants: PBF Power Marketing LLC.

Description: DCRC and PBF Change in Status Filing to be effective 7/17/2014.

Filed Date: 7/17/14.

Accession Number: 20140717-5064.

Comments Due: 5 p.m. ET 8/7/14.

Docket Numbers: ER14-2455-000.

Applicants: Hawks Nest Hydro LLC.

Description: Hawks Nest Hydro LLC MBR Filing to be effective 7/17/2014.

Filed Date: 7/17/14.

Accession Number: 20140717-5067.

Comments Due: 5 p.m. ET 8/7/14.

Docket Numbers: ER14-2456-000.

Applicants: Indianapolis Power & Light Company.

Description: IPL Market Based Rate Tariff to be effective 6/27/2014.

Filed Date: 7/17/14.

Accession Number: 20140717-5068.

Comments Due: 5 p.m. ET 8/7/14.

Docket Numbers: ER14-2457-000.

Applicants: Puget Sound Energy, Inc.

Description: Errata re Order No. 792 Compliance Filing to be effective 7/18/2014.

Filed Date: 7/17/14.

Accession Number: 20140717-5070.

Comments Due: 5 p.m. ET 8/7/14.

Docket Numbers: ER14-2458-000.

Applicants: Mesa Wind Power Corporation.

Description: Mesa Wind Power Corporation submits tariff filing per 35.13(a)(2)(iii: Mesa Wind Power Corporation MBR Filing to be effective 7/18/2014.

Filed Date: 7/17/14.

Accession Number: 20140717-5079.

Comments Due: 5 p.m. ET 8/7/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 17, 2014.
Nathaniel J. Davis, Sr.,
Deputy Secretary.

[FR Doc. 2014-17616 Filed 7-25-14; 8:45 am]

BILLING CODE 6717-01-P